DEPARTMENT OF THE INTERIOR

Bureau of Land Management

[LLNM940000. L1420000.BJ0000]

Notice of Filing of Plats of Survey, New Mexico

AGENCY: Bureau of Land Management, Interior.

ACTION: Notice of filing of Plats of Survey.

SUMMARY: The plats of survey described below are scheduled to be officially filed in the New Mexico State Office, Bureau of Land Management, Santa Fe, New Mexico, thirty (30) calendar days from the date of this publication.

SUPPLEMENTARY INFORMATION:

New Mexico Principal Meridian, New Mexico (NM):

The plat, representing the dependent resurvey and survey, in Township 15 North, Range 3 West, of the New Mexico Principal Meridian, accepted July 5, 2011, for Group 1128 NM.

The plat, representing the dependent resurvey and survey, in Township 10 South, Range 9 West, of the New Mexico Principal Meridian, accepted June 10, 2011, for Group 1122 NM.

Indian Meridian, Oklahoma (OK):

The plat, in two sheets, representing the dependent resurvey and survey in Township 19 North, Range 5 East, of the Indian Meridian, accepted June 15, 2011, for Group 195 OK.

The plat, in three sheets, representing the dependent resurvey and survey in Township 15 North, Range 11 West, of the Indian Meridian, accepted November 5, 2010, for Group 184 OK.

The plat, in eight sheets, representing the dependent resurvey and survey in Township 11 North, Range 22 East, of the Indian Meridian, accepted July 22, 2011, for Group 66 OK.

The plat, representing the dependent resurvey and survey in Township 14 North, Range 25 East, of the Indian Meridian, accepted July 25, 2011, for Group 204 OK.

The plat, in three sheets, representing the dependent resurvey and survey in Township 5 North, Range 19 West, of the Indian Meridian, accepted July 18, 2011, for Group 174 OK.

The plat, representing the dependent resurvey and survey in Township 13 North, Range 25 East, of the Indian Meridian, accepted August 3, 2011, for Group 197 OK.

The plat, representing the dependent resurvey and survey in Township 17 North, Range 23 East, of the Indian Meridian, accepted August 3, 2011, for Group 190 OK.

FOR FURTHER INFORMATION CONTACT:

These plats will be available for inspection in the New Mexico State Office, Bureau of Land Management, 301 Dinosaur Trail, Santa Fe, New Mexico. Copies may be obtained from this office upon payment. Contact Marcella Montoya at 505-954-2097, or by e-mail at Marcella_Montoya@nm.blm.gov, for assistance.

Persons who use a telecommunications device for the deaf (TDD) may call the Federal Information Relay Service (FIRS) at 1-800-877-8339 to contact the above individual during normal business hours.

These plats are to be scheduled for official filing 30 days from the notice of publication in the Federal Register, as provided for in the BLM Manual Section 2097—Opening Orders. Notice from this office will be provided as to the date of said publication. If a protest against a survey, in accordance with 43 CFR 4.450-2, of the above plats is received prior to the date of official filing, the filing will be stayed pending consideration of the protest.

A plat will not be officially filed until the day after all protests have been dismissed and become final or appeals from the dismissal affirmed.

A person or party who wishes to protest against any of these surveys must file a written protest with the Bureau of Land Management New Mexico State Director stating that they wish to protest.

A statement of reasons for a protest may be filed with the Notice of protest to the State Director or the statement of reasons must be filed with the State Director within thirty (30) days after the protest is filed.

Robert A. Casias,
Deputy State Director, Cadastral Survey/GeoSciences.

[FR Doc. 2011-21169 Filed 8-18-11; 8:45 am]

BILLING CODE 4310-FB-P